DEPARTMENT OF COMMERCE

National Oceanic and Atmospheric Administration

National Sea Grant Advisory Board

AGENCY: National Oceanic and Atmospheric Administration, Commerce.

ACTION: Notice of cancellation of public meeting.

SUMMARY: This notice sets forth the cancellation of a forthcoming meeting of the Sea Grant Advisory Board.

DATES: The 8/30/10 meeting has been cancelled and will be rescheduled. Public notification of the new date will be made in the Federal Register and the NSGO Web site (http://www.seagrant.noaa.gov).

ADDRESSES: N/A.

FOR FURTHER INFORMATION CONTACT: Mr. Jim Murray, National Sea Grant College Program, National Oceanic and Atmospheric Administration, 1315 East-West Highway, Room 11837, Silver Spring, Maryland 20910, (301)734-1070.

SUPPLEMENTARY INFORMATION: The Board, which consists of a balanced representation from academia, industry, state government and citizens groups, was established in 1976 by section 209 of the Sea Grant Improvement Act (Pub. L. 94-461, 33 U.S.C. 1128). The Board advises the Secretary of Commerce and the Director of the National Sea Grant College Program with respect to operations under the Act, and such other matters as the Secretary refers to them for review and advice.

Dated: August 26, 2010.
Mark E. Brown,
Chief Financial Officer, Office of Oceanic and Atmospheric Research, National Oceanic and Atmospheric Administration.

[FR Doc. 2010-21814 Filed 8-31-10; 8:45 am]

BILLING CODE 3510-KA-P